DEPARTMENT OF LABOR

Occupational Safety and Health Administration

[Docket No. OSHA-2012-0055]

Stakeholder Meeting on the Nationally Recognized Testing Laboratory Program

AGENCY: Occupational Safety and Health Administration (OSHA), Labor.

ACTION: Notice of stakeholder meeting.

SUMMARY: OSHA invites interested parties to attend an informal stakeholder meeting concerning Nationally Recognized Testing Laboratory (NRTL) Program policies. The meeting will focus on the following topics: NRTL independence; the NRTL initial application process and timeline; the NRTL renewal process; and, at OSHA's discretion and as time permits, other topics raised by participants or OSHA staff. OSHA plans to use the information gathered at this meeting to explore development of new or revised policies, procedures, or guidelines for the NRTL Program.

DATES: The stakeholder meeting will be held on Wednesday, March 6, 2013, from 10 a.m. to 1 p.m., e.t., in Washington, DC. The deadline to register to attend the meeting as a participant or an observer is Friday, February 22, 2013. Those who submit their registrations after February 22, 2013, may not receive confirmation of their attendance from OSHA. The deadline to submit, in writing, suggestions of additional topics for the meeting is Wednesday, February 13, 2013. Information concerning other forms of attendance (e.g., by phone) and the room number for the meeting will be available, no later than Wednesday, February 20, 2013, on OSHA's NRTL Program Web site http://www.osha.gov/nrtlpi, and in the docket for this meeting (Docket ID: OSHA-2012-0055, available at http://www.regulations.gov, and the OSHA Docket Office).

ADDRESSES: The meeting location, and addresses for registering and for suggesting additional topics, are as follows:

1. Stakeholder Meeting

OSHA will hold the stakeholder meeting in the Francis Perkins Building, U.S. Department of Labor, at 200 Constitution Avenue NW., Washington, DC 20210. See DATES and SUPPLEMENTARY INFORMATION concerning the room number for the meeting.

2. Registration to Attend

To register to attend as a participant or an observer, use one of the three methods listed below. For additional information about registering, see the “Registration” section of this notice under SUPPLEMENTARY INFORMATION below.

a. Electronically: Email your notification to attend to Ms. Lisa Saylor Gentry at gentry.lisa@dol.gov, and label the subject line of the email “NRTL March 6, 2013, Stakeholder Meeting Registration.”

b. Facsimile: Fax your notification to attend to Ms. Gentry at (202) 693-1644, and label it “NRTL March 6, 2013, Stakeholder Meeting Registration.”

c. Regular or express mail, hand delivery, or messenger (courier) service: Send your notification to attend to: OSHA Directorate of Technical Support and Emergency Management, 200 Constitution Ave. NW., Room N-3655, Washington, DC 20210, Attention: Lisa Saylor Gentry. On the outside of the envelope, write “NRTL March 6, 2013, Stakeholder Meeting Registration.” Note that security procedures may result in significant delays in receiving registrations by regular mail. If you have any questions about these instructions, contact Ms. Gentry at (202) 693-1996.

3. Suggesting Additional Topics

Submit, in writing to the public docket, your suggestions for additional topics to address at the meeting through one of the three methods listed below. For additional information about submissions to the public docket, see the “Submissions to the Public Docket” section of this notice under SUPPLEMENTARY INFORMATION, below.

a. Electronically: Submit suggested topics and any attachments electronically at http://www.regulations.gov, which is the Federal eRulemaking Portal. Follow the instructions online for making electronic submissions.

b. Facsimile: If submissions, including attachments, are not longer than ten (10) pages, commenters may fax them to the OSHA Docket Office at (202) 693-1648.

c. Regular or express mail, hand delivery, or messenger (courier) service: Submit suggestions of additional topics and any attachments to: OSHA Docket Office, Docket No. OSHA-2012-0055, Technical Data Center, U.S. Department of Labor, 200 Constitution Avenue NW., Washington, DC 20210; telephone: (202) 693-2350 (TDY number: (877) 889-5627). Note that security procedures may result in significant delays in receiving submissions and other written materials by regular mail. Contact the OSHA Docket Office for information about security procedures concerning delivery of materials by regular or express mail, hand delivery, or messenger (courier) service. The hours of operation for the OSHA Docket Office are 8:15 a.m.-4:45 p.m., e.t.

FOR FURTHER INFORMATION CONTACT: Information regarding this notice is available from the following sources:

Press inquiries: Contact Frank Meilinger, Director, OSHA Office of Communications, Room N-3647, U.S. Department of Labor, 200 Constitution Avenue NW., Washington, DC 20210; telephone: (202) 693-1999; email: meilinger.francis2@dol.gov.

General and technical information: Contact Lisa Saylor Gentry, Program Analyst, OSHA Directorate of Technical Services and Emergency Management, U.S. Department of Labor, 200 Constitution Avenue NW., Room N-3655,Washington, DC 20210; telephone: (202) 693-1996; email: gentry.lisa@dol.gov.

Copies of this Federal Register notice: Electronic copies are available at http://www.regulations.gov. This Federal Register notice, as well as news releases and other relevant information, also are available on the OSHA Web page at http://www.osha.gov.

SUPPLEMENTARY INFORMATION:

1. Background

OSHA's safety standards require that a Nationally Recognized Testing Laboratory (NRTL) approve thirty-eight (38) types of products as safe for use in the workplace. NRTLs are independent laboratories that meet OSHA's requirements for performing safety testing and certification of products used in the workplace. NRTLs test and certify (i.e., approve) these products to determine whether they conform to appropriate U.S. product-safety test standards. Each NRTL authorizes manufacturers of approved products to use the NRTL's certification mark to signify the NRTL tested and certified the product as meeting the requirements of the appropriate test standard(s). To obtain and retain recognition from OSHA as an NRTL, the NRTLs must meet the requirements of 29 CFR 1910.7, as well as the policies contained in the NRTL Program Directive, Directive Number CPL 01-00-003.

OSHA staff currently is reexamining several aspects of the NRTL Program in an effort to determine whether it should revise NRTL Program policies, procedures, or guidelines to improve the quality of services provided to NRTLs. As part of that effort, the NRTL Program may soon propose new or revised policies, procedures, or guidelines in the areas of independence, the NRTL application process, and the process for NRTL renewal. Any revisions that OSHA plans to make will not reduce worker safety.

OSHA will conduct this stakeholder meeting as a group discussion on certain topics described below. OSHA determined that informal discussion with stakeholders would be beneficial to its further deliberations on how to proceed with respect to proposing new or revised NRTL Program policies, procedures, or guidelines. The meeting also will serve as a forum to solicit input from stakeholders concerning specific topics related to the NRTL Program, which will inform OSHA staff as they continue in their development and update efforts. To facilitate as much group interaction as possible, OSHA is not permitting formal presentations by meeting attendees.

2. Stakeholder Meeting

The meeting will last about three hours. Attendees should arrive at least thirty (30) minutes early to allow time for security clearance. The nearest Metro station is Judiciary Square (Red Line), and private parking is available within walking distance of the building. Meeting attendees must have a valid photo identification (e.g., driver's license), and will need to obtain a pass from our security desk to enter the building. Security-clearance information is available at http://www.dol.gov/dol/aboutdol/visit.htm. Information concerning other forms of attendance (e.g., by phone) and the room number for the meeting will be available, no later than Wednesday, February 20, 2013, on OSHA's NRTL Program Web site http://www.osha.gov/nrtlpi, and in the docket for this meeting (Docket ID: OSHA-2012-0055, available at http://www.regulations.gov, and the OSHA Docket Office).

OSHA is limiting the meeting to approximately 20 participants, but may accommodate more participants at its discretion and as time permits. OSHA will try to accommodate all attendees who wish to participate. To ensure that all views are represented, OSHA encourages individuals and groups having similar interests to consolidate their information and participate through a single representative. Members of the general public not chosen to participate may observe, but not participate in, the meeting, unless time permits; such participation is at OSHA's discretion. OSHA staff will be present to take part in the discussions.

The specific topics for discussion include:

a. The effectiveness of the current NRTL Program independence policy, and a potential draft NRTL Program independence policy and draft independence worksheet;

b. The NRTL Program initial application timeline and the application process;

c. The NRTL Program process for NRTL renewal; and

d. At OSHA's discretion and as time permits, any other topics submitted to OSHA through the process, described in the “Suggesting Additional Topics” section under ADDRESSES above and in the “Submissions to the Public Docket” section, below, or raised by OSHA staff.

OSHA will provide to the public the final meeting agenda, and any specific documents OSHA will use at the stakeholder meeting, by Wednesday February 20, 2013. These documents will be available by that date at OSHA's NRTL Program Web site http://www.osha.gov/nrtlpi; and in the docket for this notice, Docket ID: OSHA-2012-0055, available at: http://www.regulations.gov, and the OSHA Docket Office.

Eastern Research Group (ERG), Inc., (110 Hartwell Avenue, Lexington, MA 02421) will provide a facilitator for the meeting. OSHA will prepare a full transcript of the meeting, and post this transcript on the NRTL Program Web site http://www.osha.gov/nrtlpi, and in the docket for this notice, Docket ID: OSHA-2012-0055, available at http://www.regulations.gov and the OSHA Docket Office.

3. Registration

Submit a notification to attend as a participant or an observer in the stakeholder meeting by Friday, February 22, 2013, using one of the three methods described above in the “Notification to Attend” section of this notice under ADDRESSES. If you would like to attend by means other than in-person attendance (e.g., if you would like to attend by phone), please include this information with your registration.

OSHA will accommodate attendees who do not register for the meeting if space permits. However, those who wish to participate in the meeting must register as participants. OSHA will consider as an observer any attendee who does not register as a participant.

The number of attendees who may participate in the meeting is limited; therefore, OSHA will grant priority as a participant to current or former NRTLs, and current NRTL applicants. Only one representative from each organization may attend as a participant, but this organization may have more than one observer in attendance (space permitting).

Any individual or entity not affiliated with a current or former NRTL, or a current NRTL applicant, wishing to participate in the meeting must submit, with their notification to attend, a written statement that indicates their interest in the NRTL Program and the specific topic(s) they wish to discuss. OSHA will treat these submissions as suggestions for potential additional topics for discussion at the meeting, and will enter the statements into the docket for the meeting. However, if OSHA receives these statements after Wednesday, February 13, 2013 (the last day to timely submit topics), OSHA may not review the statements for the purpose of generating a meeting agenda (see relevant discussion in the “Submissions to the Public Docket” section, directly below).

Registrants not affiliated with a current or former NRTL, or a current NRTL applicant, who raise a specific topic they would like discussed at the meeting will have priority as participants over similar attendees who raise broad topics only. OSHA cannot guarantee participation for all those who register as participants, but it will, at its discretion, accommodate registrants who want to participate, and make every effort to ensure a fair representation of interests and to facilitate gathering diverse viewpoints.

In registering, current or former NRTLs, and current NRTL applicants, need not submit statements indicating their interest in the NRTL Program and the specific topic(s) they wish to discuss. However, these organizations are welcome to submit, in writing, suggestions for additional topics for discussion (pursuant to the procedures described in the “Suggesting Additional Topics” section under ADDRESSES, above, and in the “Submissions to the Public Docket” section, directly below).

When registering, please provide the following information:

a. Name, contact address, daytime phone, fax, and email address;

b. The organization for which you work or represent, if any;

c. Whether you are employed at, affiliated with, or represent a current or former NRTL or a current NRTL applicant;

d. Whether you are attending as a participant or observer;

e. If you will be attending by means other than in-person attendance (e.g., by phone) and wish to be a participant; and

f. If you are not affiliated with a current or former NRTL, or current NRTL applicant, and wish to attend as a participant, a written statement that indicates your interest in the NRTL Program and the specific topic(s) you wish to discuss. (OSHA will, at its discretion, make these topics part of the meeting agenda.)

4. Submissions to the Public Docket

All submissions to the public docket must: (1) Be made using any of the methods listed above in the section of this notice titled “Suggesting Additional Topics” under ADDRESSES; and (2) include the Agency name (i.e., OSHA) and the OSHA docket number (i.e., OSHA-2012-0055). To be considered timely, you must make submissions to the public docket by Wednesday, February 13, 2013.

Note that a submission to the public docket does not constitute registration to attend the meeting as a participant or an observer. To register as a participant or an observer, you must follow the procedures described above in the section of this notice titled “Registration” under SUPPLEMENTARY INFORMATION.

OSHA will use the submissions it timely receives to help it establish the meeting agenda, which it will release on Wednesday February 20, 2013, by way of OSHA's NRTL Program Web site http://www.osha.gov/nrtlpi, and in the docket for this notice, Docket ID: OSHA-2012-0055, available at http://www.regulations.gov and the OSHA Docket Office. OSHA will consider submissions made after February 13, 2013, untimely and may not use such submissions in generating the meeting agenda.

OSHA will place all submissions, including any personal information, in the public docket without revision. Therefore, OSHA cautions commenters about submitting statements they do not want made public, or submissions that contain personal information (either about themselves or others) such as Social Security numbers, birth dates, and medical data. To read or download submissions or other material in the docket (e.g., public submissions of suggested topics), go to http://www.regulations.gov or to the OSHA Docket Office. All documents placed in the docket will be referenced electronically at http://www.regulations.gov (Docket ID: OSHA-2012-0055); however, some information (e.g., copyrighted material) is not publicly available to read or download through the Web site. All submissions, including copyrighted material, will be available for inspection at the OSHA Docket Office. Contact the OSHA Docket Office for assistance in locating docket submissions.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2)), and Secretary of Labor's Order No. 1-2012 (77 FR 3912, Jan. 25, 2012).

Signed at Washington, DC, on January 29, 2013.
David Michaels,
Assistant Secretary of Labor for Occupational Safety and Health.

[FR Doc. 2013-02173 Filed 1-31-13; 8:45 am]

BILLING CODE 4510-26-P